DEPARTMENT OF THE INTERIOR

Fish and Wildlife Service

[FWS-R4-R-2009-N173; 40136-1265-0000-S3]

Bayou Teche National Wildlife Refuge, St. Mary Parish, LA

AGENCY: Fish and Wildlife Service, Interior.

ACTION: Notice of availability: final comprehensive conservation plan and finding of no significant impact.

SUMMARY: We, the Fish and Wildlife Service (Service), announce the availability of our final comprehensive conservation plan (CCP) and finding of no significant impact (FONSI) for the environmental assessment for Bayou Teche National Wildlife Refuge (NWR). In the final CCP, we describe how we will manage this refuge for the next 15 years.

ADDRESSES: You may obtain a copy of the CCP by writing to: Mr. Paul Yakupzack, Refuge Manager, Mandalay NWR, 3599 Bayou Black Drive, Houma, LA 70360. You may also access and download the document from the Service's Web site: http://southeast.fws.gov/planning.

FOR FURTHER INFORMATION CONTACT: Mr. Paul Yakupzack; telephone: 985/853-1078; fax: 985/853-1079; e-mail: paul_yakupzack@fws.gov.

SUPPLEMENTARY INFORMATION:

Introduction

With this notice, we finalize the CCP process for Bayou Teche NWR. We started this process through a notice in the Federal Register on March 19, 2007 (72 FR 12811). For more about the process, see that notice.

Bayou Teche NWR is located near the town of Franklin in St. Mary Parish, Louisiana. The refuge contains 9,028 acres and is composed of wet bottomland hardwood forests laced with bayous and canals. The refuge was established on October 31, 2001, on lands important to the coastal subpopulation of the Louisiana black bear. The refuge consists of six separate units, ranging in size from 3,724 acres to 80 acres.

We announce our decision and the availability of the final CCP and FONSI for Bayou Teche NWR in accordance with the National Environmental Policy Act (NEPA) [40 CFR 1506.6(b)] requirements. We completed a thorough analysis of impacts on the human environment, which we included in the draft comprehensive conservation plan and environmental assessment (Draft CCP/EA). The CCP will guide us in managing and administering Bayou Teche NWR for the next 15 years.

The compatibility determinations for boating, recreational fishing, recreational hunting, wildlife observation/photography, and environmental education/interpretation are available in the CCP.

Background

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Comments

Approximately 100 copies of the Draft CCP/EA were made available for a 30-day public review period as announced in the Federal Register on June 8, 2009 (74 FR 27174). Several comments were received from local citizens and the Louisiana Department of Wildlife and Fisheries.

Selected Alternative

After considering the comments we received, and based on the sound professional judgment of the planning team, we selected Alternative B to implement the CCP. The primary focuses of the CCP are to optimize Louisiana black bear and wetland habitats, monitor targeted flora and fauna representative of the lower Atchafalaya Basin, and provide quality public use programs and wildlife-dependent recreational activities. Based on the mission of the National Wildlife Refuge System, the purposes for which Bayou Teche NWR was established, and the focus of the Lower Mississippi River Ecosystem priorities, we believe Alternative B best fits the goals of the refuge.

Authority

This notice is published under the authority of the National Wildlife Refuge System Improvement Act of 1997, Public Law 105-57.

Dated: August 24, 2009.
Patrick Leonard,
Acting Regional Director.

[FR Doc. E9-27888 Filed 11-19-09; 8:45 am]

BILLING CODE 4310-55-P